SECURITIES AND EXCHANGE COMMISSION

[OMB Control No. 3235-0700]

Agency Information Collection Activities; Submission for OMB Review; Comment Request; Extension: Rule 18a-4

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (SEC or “Commission”) is submitting to the Office of Management and Budget (“OMB”) this request for an extension of the proposed collection of information in Rule 18a-4.

Rule 18a-4, 17 CFR 240.18a-4, establishes segregation requirements for cleared and non-cleared security-based swap transactions, which applies to non-broker-dealer security-based swap dealers (“SBSDs”) (i.e., bank SBSDs and nonbank stand-alone SBSDs), as well as notification requirements for non-broker-dealer SBSDs and major security-based swap participants. The collection of information requirements in the rule facilitates the process by which the Commission and its staff monitor how SBSDs are fulfilling their custodial responsibilities to security-based swap customers. They also alert counterparties to the alternatives available to them with respect to segregation of non-cleared security-based swaps. The aggregate annual burden for all respondents is estimated to be 8,497 hours.

The collections of information in the rule are mandatory. The information is kept confidential to the extent permitted by the Freedom of Information Act (5 U.S.C. 552 et seq.).

An agency may not conduct or sponsor, and a person is not required to respond to, a collection of information unless it displays a currently valid OMB Control Number.

Written comments are invited on: (a) whether this proposed collection of information is necessary for the proper performance of the functions of the SEC, including whether the information will have practical utility; (b) the accuracy of the SEC's estimate of the burden imposed by the proposed collection of information, including the validity of the methodology and the assumptions used; (c) ways to enhance the quality, utility, and clarity of the information to be collected; and (d) ways to minimize the burden of the collection of information on respondents, including through the use of automated, electronic collection techniques or other forms of information technology.

The public may view and comment on this information collection request at: https://www.reginfo.gov/public/do/PRAViewICR?ref_nbr=202507-3235-013 or email comment to MBX.OMB.OIRA.SEC_desk_officer@omb.eop.gov within 30 days of the day after publication of this notice, by October 27, 2025.

Dated: September 23, 2025.
Sherry R. Haywood,
Assistant Secretary.

[FR Doc. 2025-18647 Filed 9-24-25; 8:45 am]

BILLING CODE 8011-01-P